DEPARTMENT OF THE INTERIOR

Bureau of Land Management

[WO-350-1430-EY-24 1A]

OMB Approval Number 1004-0153; Information Collection Submitted to the Office of Management and Budget Under the Paperwork Reduction Act

The Bureau of Land Management (BLM) has submitted an extension of a currently approved collection to collect the information listed below to the Office of Management and Budget (OMB) under the provisions of the Paperwork Reduction Act (44 U.S.C. 3501 et seq.). On October 11, 2001, the BLM published a notice in the Federal Register (66 FR 51968) requesting comment on this information collection. The comment period ended on December 10, 2001. BLM received no comments from the public. You may obtain copies of the collection of information and related forms and explanatory material by contacting the BLM Information Collection Clearance Officer at the telephone number listed below.

The OMB must respond to this request within 60 days but may respond after 30 days. For maximum consideration your comments and suggestions on the requirement should be made within 30 days directly to the Office of Management and Budget, Interior Department Desk Officer (1004-0153), Office of Information and Regulatory Affairs, Washington, DC 20503. Please provide a copy of your comments to the Bureau Information Collection Clearance Officer (WO-630), Bureau of Land Management, Eastern States Office, 7450 Boston Blvd., Springfield, Virginia 22153.

Nature of Comments

We specifically request your comments on the following:

1. Whether the collection of information is necessary for the proper functioning of the BLM, including whether the information will have practical utility;

2. The accuracy of the BLM's estimate of the burden of collecting the information, including the validity of the methodology and assumptions used;

3. The quality, utility and clarity of the information to be collected; and

4. How to minimize the burden of collecting the information on those who are to respond, including the use of appropriate automated electronic, mechanical, or other forms of information technology.

Title: Conveyance of Federally-Owned Mineral Interests, 43 CFR part 2720.

OMB Approval Number: 1004-0153.

Bureau Form Number: No Form.

Abstract: We use the information to determine if private surface estate land owners seeking conveyance of the Federally-owned mineral interests lying beneath the surface of their privately owned lands meet the requirements of 43 CFR part 2720.

Frequency: Once.

Description of Respondents: Privately-owned surface estate land owners with Federally-owned mineral interests lying beneath the surface of their privately owned lands.

Estimated Completion Time: 10 hours.

Annual Responses: 30.

Application Fee Per Response: $50.

Annual Burden Hours: 300.

Bureau Clearance Officer: Michael Schwartz, (202) 452-5033.

Dated: June 6, 2002.
Michael H. Schwartz,
Bureau of Land Management, Information Collection Clearance Officer.

[FR Doc. 02-24160 Filed 9-23-02; 8:45 am]

BILLING CODE 4310-84-M